DEPARTMENT OF COMMERCE

International Trade Administration

[A-533-502]

Welded Carbon Steel Standard Pipes and Tubes From India: Rescission of Antidumping Duty Administrative Review 2019-2020

AGENCY: Enforcement and Compliance, International Trade Administration, Department of Commerce.

SUMMARY: The Department of Commerce (Commerce) is rescinding the administrative review on welded carbon steel standard pipes and tubes (pipes and tubes) from India covering the period of review (POR) May 1, 2019, through April 30, 2020, based on the timely withdrawal of the request for review.

DATES: Applicable November 23, 2020.

FOR FURTHER INFORMATION CONTACT: Jacob Keller, AD/CVD Operations, Office I, Enforcement and Compliance, International Trade Administration, U.S. Department of Commerce, 1401 Constitution Avenue NW, Washington, DC 20230; telephone: (202) 482-4849.

SUPPLEMENTARY INFORMATION:

Background

On May 1, 2019, Commerce published a notice of opportunity to request an administrative review of the antidumping duty order on pipes and tubes from India for the POR May 1, 2019, through April 30, 2020.¹ On July 10, 2020, in response to timely requests from interested parties, and in accordance with section 751(a) of the Tariff Act of 1930, as amended (the Act), and 19 CFR 351.213(b), we initiated an administrative review of the antidumping duty order on pipes and tubes from India with respect to 30 companies.²

¹ See Antidumping or Countervailing Duty Order, Finding, or Suspended Investigation; Opportunity to Request Administrative Review, 85 FR 25394 (May 1, 2020).

² See Initiation of Antidumping and Countervailing Duty Administrative Reviews, 85 FR 41540 (July 10, 2020).

On October 8, 2020, Nucor Tubular Products Inc. (Nucor) timely withdrew its request for an administrative review for Apl Apollo Tubes Ltd., Asian Contec Ltd., Bhandari Foils & Tubes Ltd., Bhushan Steel Ltd., Blue Moon Logistics Pvt. Ltd., CH Robinson Worldwide, Ess-Kay Engineers, Garg Tube Export LLP, GCL Private Limited, Goodluck India Ltd., GVN Fuels Ltd., Fiber Tech Composite Pvt. Ltd., Hydromatik, Jindal Quality Tubular Ltd., KLT Automatic & Tubular Products Ltd., Lloyds Line Pipes Ltd., Manushi Enterprise, MARINEtrans India Private Ltd., Nishi Boring Corporation, Patton International Ltd., Raajratna Ventures Ltd., Ratnamani Metals & Tubes Ltd., SAR Transport Systems Pvt. Ltd., Surya Global Steel Tubes Ltd., Surya Roshni Ltd., Vallourec Heat Exchanger Tubes Ltd., Welspun India Ltd., Zenith Birla (India) Ltd., Zenith Birla Steels Private Ltd., and Zenith Dyeintermediates Ltd.³

³ See Nucor's Letter, “Certain Welded Carbon Steel Standard Pipes and Tubes from India: Withdrawal of Request for Administrative Review,” dated October 8, 2020.

Rescission of Administrative Review

Pursuant to 19 CFR 351.213(d)(1), Commerce will rescind an administrative review “in whole or in part, if a party that requested a review withdraws the request within 90 days of the date of publication of notice of initiation of the requested review.” Because Nucor withdrew its request for review within the 90-day time limit,⁴ and because we received no other requests for review of the companies for which the review request was withdrawn, we are rescinding the administrative review of the order on pipes and tubes from India, in its entirety.

⁴ The 90-day period ended on Thursday, October 8, 2020.

Assessment

Commerce will instruct U.S. Customs and Border Protection (CBP) to assess antidumping duties on all appropriate entries. For all respondents, antidumping duties shall be assessed at the rate equal to the cash deposit of estimated antidumping duties required at the time of entry, or withdrawal from warehouse, for consumption, in accordance with 19 CFR 351.212(c)(1)(i). Commerce intends to issue appropriate assessment instructions to CBP 15 days after publication of this notice in the Federal Register.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Notification Regarding Administrative Protective Order

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

Notification to Interested Parties

This notice is issued and published in accordance with sections 751(a)(1) and 777(i)(1) of the Act and 19 CFR 351.213(d)(4).

Dated: November 17, 2020.
James Maeder,
Deputy Assistant Secretary for Antidumping and Countervailing Duty Operations.

[FR Doc. 2020-25813 Filed 11-20-20; 8:45 am]

BILLING CODE 3510-DS-P